DEPARTMENT OF ENERGY

Federal Energy Regulatory Commission

[Docket No. PR05-16-001]

Enstor Grama Ridge Storage and Transportation LLC; Notice of Out of Time Informational Filing

February 15, 2008.

Take notice that on January 23, 2008, Enstor Grama Ridge Storage and Transportation LLC (Enstor Grama) filed out of time to notify the Commission of a change in its market power status pursuant to Ordering Paragraph (A) of the December 21, 2005, Commission Order.¹ The December 21 Order granted Enstor Grama market-based rate authority for firm and interruptible storage services performed under Section 311 of the Natural Gas Policy Act and required the company to notify the Commission of changes and/or acquisitions that affect its market power status.

¹ Grama Ridge Storage and Transportation, LLC, 113 FERC 61,301 (2005).

Enstor Grama explains that during its preparation of the required notification of an affiliate's acquisition of Freebird Gas Storage, LLC in Lamar County, Alabama, Enstor Grama realized it had not timely reported the increased storage capacity at the Grama Ridge Facilities as required by the Commission. Enstor Grama's instant filing states that the Grama Ridge Facility's working gas capacity has increased from 4.5 Bcf to 7.7 Bcf. The instant filing also includes a revised market power analysis.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time February 21, 2008.

Nathaniel J. Davis, Sr.,
Deputy Secretary.

[FR Doc. E8-3498 Filed 2-22-08; 8:45 am]

BILLING CODE 6717-01-P